OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Senior Executive Resource Services, Executive Resources and Employee Development, Employee Services, 202-606-2246.

SUPPLEMENTARY INFORMATION: Appearing in the listing below are the individual authorities established under Schedules A, B, and C between December 1, 2011, and December 31, 2011. These notices are published monthly in the Federal Register at www.gpoaccess.gov/fr/. A consolidated listing of all authorities as of September 30 is also published each year. The following Schedules are not codified in the Code of Federal Regulations. These are agency-specific exceptions.

Schedule A

No Schedule A authorities to report during December 2011.

Schedule B

No Schedule B authorities to report during December 2011.

Schedule C

The following Schedule C appointments were approved during December 2011.

Agency name | Organization name | Position title | Authorization No. | Effective date
Department of Agriculture | Farm Service Agency | Special Assistant (Deputy Chief of Staff) | DA120017 | 12/1/2011
Department of Commerce | Office of the Chief of Staff | Senior Advisor | DC120018 | 12/2/2011
| Office of the Chief of Staff | Confidential Assistant | DC120022 | 12/6/2011
| Office of the Deputy Secretary | Special Assistant | DC120023 | 12/6/2011
| Office of the Under Secretary | Senior Advisor | DC120024 | 12/12/2011
| National Oceanic and Atmospheric Administration | Special Assistant | DC120029 | 12/21/2011
| Import Administration | Special Advisor | DC120034 | 12/21/2011
| Office of the Deputy Secretary | Special Advisor | DC120035 | 12/22/2011
Commodity Futures Trading Commission | Office of the Chairperson | Administrative Assistant | CT120003 | 12/1/2011
Department of Defense | Office of Assistant Secretary of Defense (Legislative Affairs) | Special Assistant | DD120002 | 12/11/2011
| Office of Assistant Secretary of Defense (Legislative Affairs) | Special Assistant | DD120003 | 12/11/2011
| Office of Assistant Secretary of Defense (Legislative Affairs) | Special Assistant | DD120015 | 12/8/2011
Department of Education | Office of Communications and Outreach | Special Assistant | DB110101 | 12/12/2011
| Office for Civil Rights | Senior Counsel | DB120022 | 12/12/2011
| Office for Civil Rights | Senior Counsel | DB120023 | 12/5/2011
| Office of Innovation and Improvement | Associate Assistant Deputy Secretary | DB120024 | 12/12/2011
| Office of Communications and Outreach | Deputy Assistant Secretary, Intergovernmental Affairs | DB120025 | 12/19/2011
| Office of Postsecondary Education | Confidential Assistant | DB120026 | 12/12/2011
| Office of the General Counsel | Special Assistant | DB120028 | 12/27/2011
| Office of the Under Secretary | Executive Director, Whiainae | DB120031 | 12/27/2011
| Office of the Secretary | Confidential Assistant | DB120033 | 12/30/2011
Department of Energy | Office of Public Affairs | Special Assistant | DE120019 | 12/12/2011
| Office of Public Affairs | Deputy Director | DE120021 | 12/1/2011
| Office of Public Affairs | Press Secretary | DE120022 | 12/1/2011
Environmental Protection Agency | Operations Staff | Special Representative | EP120005 | 12/2/2011
| Operations Staff | Trip Coordinator | EP120010 | 12/1/2011
Federal Communications Commission | Office Strategic Planning and Policy Analysis | Special Advisor, Osp | FC120005 | 12/16/2011
General Services Administration | Office of Congressional and Intergovernmental Affairs | Legislative Policy Advisor | GS120003 | 12/12/2011
Department of Homeland Security | Office of the Under Secretary for Intelligence and Analysis | Liaison for Community Partnership and Strategic Engagement | DM120013 | 12/16/2011
Department of Housing and Urban Development | Office of the Chief Human Capital Officer | Director of Scheduling | DU120013 | 12/23/2011
| Office of Housing | Senior Policy Advisor | DU120015 | 12/23/2011
Department of the Interior | Secretary's Immediate Office | Special Assistant | DI120017 | 12/30/2011
| Secretary's Immediate Office | Special Assistant | DI120018 | 12/30/2011
| Secretary's Immediate Office | Deputy Director | DI120019 | 12/30/2011
Department of Justice | Executive Office for United States Attorneys | Counsel | DJ120015 | 12/6/2011
Department of Labor | Office of the Assistant Secretary for Policy | Senior Policy Advisor | DL120020 | 12/16/2011
National Endowment for the Arts | National Endowment for the Arts | Scheduler | NA120001 | 12/8/2011
National Transportation Safety Board | Office of Board Members | Special Assistant | TB120002 | 12/19/2011
Office of Management and Budget | Communications | Deputy Associate Director for Communications, Management | BO120003 | 12/7/2011
| Office of the Director | Special Assistant | BO120004 | 12/23/2011
| Office of the Director | Confidential Assistant | BO120008 | 12/16/2011
Office of Personnel Management | Office of the Director | Director of Advance | PM120005 | 12/19/2011
| Office of Congressional and Legislative Affairs | Senior Advisor for Learning and Mentoring | PM120006 | 12/19/2011
| Office of the Director | Senior Advisor for Innovation | PM120007 | 12/19/2011
| Office of Congressional and Legislative Affairs | Congressional Relations Officer | PM120008 | 12/22/2011
| Office of Communications and Public Liaison | Communications Specialist | PM120009 | 12/21/2011
Securities and Exchange Commission | Division of Corporation Finance | Confidential Assistant | SE120001 | 12/21/2011
Department of State | Office of the Deputy Secretary for Management and Resources | Staff Assistant | DS120016 | 12/12/2011
| Bureau of Public Affairs | Staff Assistant | DS120019 | 12/16/2011
Department of Transportation | Assistant Secretary for Governmental Affairs | Associate Director for Governmental Affairs | DT120013 | 12/2/2011
| General Counsel | Associate General Counsel | DT120015 | 12/2/2011
Department of the Treasury | Under Secretary for Domestic Finance | Senior Advisor | DY120029 | 12/5/2011
| Assistant Secretary (Public Affairs) | Special Assistant | DY120030 | 12/23/2011
| Assistant Secretary (Public Affairs) | Media Affairs Specialist | DY120031 | 12/7/2011
| Assistant Secretary (Public Affairs) | Spokesperson | DY120032 | 12/12/2011

The following Schedule C appointment authorities were revoked during December 2011.

Agency | Organization | Position title | Authorization No. | Vacate date
Commodity Futures Trading Commission | Office of the Chairperson | Special Assistant to the Commissioner | CT090011 | 12/3/2011
Department of Agriculture | Farm Service Agency | Confidential Assistant | DA100172 | 12/3/2011
Department of Agriculture | Office of the Under Secretary for Marketing and Regulatory Programs | Chief of Staff | DA100166 | 12/30/2011
Department of Agriculture | Office of Under Secretary for Natural Resources and Environment | Confidential Assistant to the Under Secretary | DA090171 | 12/31/2011
Department of Commerce | Assistant Secretary for Market Access and Compliance | Senior Advisor | DC090169 | 12/2/2011
Department of Commerce | Immediate Office | Special Assistant | DC110021 | 12/5/2011
Department of Commerce | Office of the Deputy Secretary | Special Assistant to the Deputy Secretary | DC110107 | 12/30/2011
Department of Commerce | International Trade Administration | Special Advisor | DC100124 | 12/31/2011
Department of Education | Office of Planning, Evaluation and Policy Development | Confidential Assistant | DB110073 | 12/2/2011
Department of Education | Office of Legislation and Congressional Affairs | Confidential Assistant | DB110068 | 12/17/2011
Department of Education | Office of the Secretary | Confidential Assistant | DB110056 | 12/29/2011
Department of Education | Office of Communications and Outreach | Director, Intergovernmental Affairs | DB090078 | 12/31/2011
Department of Education | Office of the Under Secretary | Deputy Director of the White House Initiative on Tribal Colleges and Universities | DB110022 | 12/31/2011
Department of Education | Office of Elementary and Secondary Education | Confidential Assistant | DB110046 | 12/31/2011
Department of Energy | Office of Public Affairs | Deputy Press Secretary | DE090126 | 12/3/2011
Department of Energy | Office of Public Affairs | Director, Public Affairs | DE090119 | 12/4/2011
Department of Energy | Office of the Secretary | Special Assistant | DE100116 | 12/17/2011
Department of Health and Human Services | Office of the Deputy Secretary | Regional Director, Kansas city, Missouri, Region VII | DH100018 | 12/16/2011
Department of Homeland Security | Office of the Chief of Staff | Liaison for Community Partnership and Strategic Engagement | DM110110 | 12/17/2011
Department of Homeland Security | Office of the Assistant Secretary for Intergovernmental Affairs | Advisor to the Assistant Secretary for intergovernmental Affairs | DM100196 | 12/30/2011
Department of Homeland Security | Office of the Chief of Staff | Advance Representative | DM090281 | 12/31/2011
Department of Housing and Urban Development | Office of Congressional and Intergovernmental Relations | Congressional Relations Specialist | DU100102 | 12/3/2011
Department of Housing and Urban Development | Office of Congressional and Intergovernmental Relations | Intergovernmental and Public Engagement Liaison | DU110007 | 12/3/2011
Department of Housing and Urban Development | Office of the Administration | Special Assistant | DU100104 | 12/9/2011
Department of Housing and Urban Development | Office of the Secretary | Director of Advance | DU100109 | 12/23/2011
Department of Justice | Office of the Deputy Attorney General | Senior Counsel | DJ110095 | 12/3/2011
Department of Justice | Office of the Attorney General | Counsel | DJ090163 | 12/17/2011
Department of Justice | Antitrust Division | Senior Counsel | DJ110093 | 12/17/2011
Department of Justice | Office of Public Affairs | Press Assistant | DJ100122 | 12/31/2011
Department of the Army | Office of the General Counsel | Special Assistant to the General Counsel | DW100026 | 12/17/2011
Department of the Interior | Secretary's Immediate Office | Special Assistant | DI120008 | 12/17/2011
Department of the Interior | Secretary's Immediate Office | Special Assistant | DI090145 | 12/19/2011
Department of the Interior | Assistant Secretary—Land and Minerals Management | Special Assistant | DI100030 | 12/30/2011
Department of Transportation | General Counsel | Counselor to the General Counsel | DT100047 | 12/3/2011
Department of Transportation | Administrator | Director for Governmental Affairs | DT100025 | 12/20/2011
Environmental Protection Agency | Operations Staff | Director, Operations Staff | EP100088 | 12/24/2011
General Services Administration | Office of Congressional and Intergovernmental Affairs | Congressional Relations Specialist | GS100034 | 12/17/2011
General Services Administration | Office of the Administrator | Special Assistant to the Chief of Staff | GS100050 | 12/31/2011
National Endowment for the Humanities | National Endowment for the Humanities | Confidential Assistant | NH100003 | 12/31/2011
National Transportation Safety Board | Office of Board Members | Special Assistant | TB100013 | 12/3/2011
Office of Personnel Management | Office of Personnel Management | Deputy Chief of Staff | PM090014 | 12/31/2011
Office of Personnel Management | Office of the Director | Deputy Chief of Staff | PM090018 | 12/31/2011
Office of Personnel Management | Office of the Director | Special Assistant | PM090026 | 12/31/2011
Office of Personnel Management | Office of the General Counsel | Attorney-Advisor | PM090025 | 12/31/2011
Office of Personnel Management | Office of Congressional Relations | Congressional Relations Officer | PM090031 | 12/31/2011
Office of Personnel Management | Office of Congressional Relations | Constituent Services Representative | PM090035 | 12/31/2011
Office of the Secretary of Defense | Office of the secretary | Advance officer | DD090291 | 12/9/2011
Office of the Secretary of Defense | Office of Assistant Secretary of Defense (Legislative Affairs) | Special Assistant to the Assistant Secretary of Defense (Legislative Affairs) | DD090235 | 12/17/2011
Office of the Secretary of Defense | Office of Assistant Secretary of Defense (Legislative Affairs) | Special Assistant | DD100012 | 12/17/2011
Securities and Exchange Commission | Office of the Chairman | Confidential Assistant | SE060005 | 12/31/2011
Securities and Exchange Commission | Office of the Chairman | Confidential Assistant | SE100007 | 12/31/2011
Small Business Administration | Office of Communications and Public Liaison | Deputy Associate Administrator for Communications and Public Liaison | SB090044 | 12/9/2011
Small Business Administration | Office of Government Contracting and Business Development | Senior Advisor to the Associate Administrator for Government Contracting and Business Development | SB110001 | 12/17/2011
Small Business Administration | Office of Policy and Strategic Planning | Policy Associate | SB100031 | 12/28/2011
United States International Trade Commission | Office of the Chairman | Staff Assistant | TC040001 | 12/3/2011
National Endowment for the Humanities |  | Scheduler | NA100002 | 12/23/2011
Office of the Secretary of Defense |  | Advance Officer | DD090291 | 12/9/2011
General Services Administration |  | Special Assistant to the Chief of Staff | GS100050 | 12/31/2011
Small Business Administration | Office of Communications and Public Liaison | Deputy Associate Administration for Communication & Public Liaison | SB090044 | 12/9/2011
State | Bureau of European and Eurasian Affairs | Deputy Assistant Secretary | DS090276 | 12/27/2011
Office of the United States Trade Representative | Office of the United States Trade Representative | Personal Assistant to the United States Trade Representative |  | 12/22/2011
Department of the Treasury | Assistant Secretary | Press Assistant | DY100100 | 12/9/2011
Department of the Treasury | Assistant Secretary | Spokesperson | DY090156 | 12/9/2011

Authority: 5 U.S.C. 3301 and 3302; E.O. 10577, 3 CFR 1954-1958 Comp., p. 218.

U.S. Office of Personnel Management.
John Berry,
Director.

[FR Doc. 2012-9758 Filed 4-20-12; 8:45 am]

BILLING CODE 6325-39-P